DEPARTMENT OF DEFENSE

Department of the Navy

[Docket ID: USN-2012-0001]

Privacy Act of 1974; System of Records

AGENCY: Department of the Navy, DoD.

ACTION: Notice to alter a system of records.

SUMMARY: The Department of the Navy is establishing a new system of records in its inventory of record systems subject to the Privacy Act of 1974 (5 U.S.C. 552a), as amended.

DATES: This proposed action will be effective on February 28, 2013 unless comments are received which result in a contrary determination. Comments will be accepted on or before February 27, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, HEAD, FOIA/Privacy Act Policy Branch, Department of the Navy, 2000 Navy Pentagon, Washington, DC 20350-2000, or by phone at (202) 685-6545.

SUPPLEMENTARY INFORMATION: The Department of the Navy notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on December 27, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 23, 2013.
Aaron Siegel,
Alternate OSD Federal Register Liaison Officer, Department of Defense.

NM06150-6

System name:

Medical Readiness Reporting System (MRRS) (May 5, 2006, 71 FR 26481).

Changes:

* * * * *

System Location:

Delete entry and replace with “Space and Naval Warfare Systems Center New Orleans (SSC NOLA), 2251 Lakeshore Drive, New Orleans, LA 70122-0001.”

Categories of individuals covered by the system:

Delete entry and replace with “Active Duty and Reserve Navy, Marine Corps, and Coast Guard personnel.”

Categories of records in the system:

Delete entry and replace with “Name, Social Security Number (SSN) and/or DoD ID Number, home address, phone number, work email address, gender, date of birth, unit assigned; medical readiness data that includes immunizations (dates and type), laboratory results and/or procedures, physicals, eye, audio and dental exams, dental readiness category and injury status.”

Authority for maintenance of the system:

Delete entry and replace with “10 U.S.C. 5013, Secretary of the Navy; 10 U.S.C. 5041, Headquarters, Marine Corps; BUMED Note 6110, Tracking and Reporting Individual Medical Readiness Data; SECNAVINST 6120.3, Secretary of the Navy Periodic Health Assessment for Individual Medical Readiness; Pub. L. 108-735, Section 731 Ronald Reagan National Defense Authorization Act, 10 U.S.C. 136(d), Under Secretary of Defense for Personnel; 10 U.S.C. 671, Members not to be assigned outside United States before completing training; and E.O. 9397 (SSN), as amended.”

* * * * *

Storage:

Delete entry and replace with “Paper file folders and electronic storage media.”

* * * * *

Safeguards:

Delete entry and replace with “Computer processing facilities and terminals are located in restricted areas accessible only to authorized persons that are properly screened, cleared, and trained. Access to this system of records and personal information is restricted by use of the Common Access Card (CAC). Manual records and computer printouts are available only to authorized personnel having a need-to-know.”

* * * * *

System manager(s) and address:

Delete entry and replace with “For Marine Corps: Headquarters U.S. Marine Corps, PPO, PLN (National Plans Branch), 3000 Marine Corps Pentagon, Washington, DC 20350-3000.

For Navy: Navy Personnel Command (Pers-455), 5720 Integrity Drive, Building 791, Millington, TN 38055-3110.

For Coast Guard: United States Coast Guard (USCG), Headquarters (CG-912), 2100 2nd St. SW., Suite 1100, Washington DC 20593-0001.”

Notification procedure:

Delete entry and replace with “Individuals seeking to determine whether this system of records contains information about themselves should address written inquiries to the appropriate systems manager listed above.

The signed letter should contain full name and SSN and/or DoD ID Number.

The system manager may require an original signature or a notarized signature as a means of proving the identity of the individual requesting access to the records.”

Record access procedures:

Delete entry and replace with “Individuals seeking access to records about themselves contained in this system of records should address written inquiries to the appropriate systems manager listed above.

The signed letter should contain full name and SSN and/or DoD ID Number.

The system manager may require an original signature or a notarized signature as a means of proving the identity of the individual requesting access to the records.”

* * * * *

[FR Doc. 2013-01682 Filed 1-25-13; 8:45 am]

BILLING CODE 5001-06-P